DEPARTMENT OF TRANSPORTATION

Office of the Secretary

Application of PM Air, LLC For Certificate Authority

AGENCY: Department of Transportation.

ACTION: Notice of Order To Show Cause (Order 2005-9-12); Docket OST-2005-20363.

SUMMARY: The Department of Transportation is directing all interested persons to show cause why it should not issue an order finding PM Air, LLC fit, willing, and able, and awarding it a certificate of public convenience and necessity to engage in interstate scheduled air transportation of persons, property, and mail operating no more than two aircraft in scheduled service under Part 135 of the Federal Aviation Regulations.

DATES: Persons wishing to file objections should do so no later than September 26, 2005.

ADDRESSES: Objections and answers to objections should be filed in Docket OST-2005-20363 and addressed to U.S. Department of Transportation, Docket Operations, (M-30, Room PL-401), 400 Seventh Street, SW., Washington, DC 20590, and should be served upon the parties listed in Attachment A to the order.

FOR FURTHER INFORMATION CONTACT: Mr. Damon D. Walker, Air Carrier Fitness Division (X-56, Room 6401), U.S. Department of Transportation, 400 Seventh Street, SW., Washington, DC 20590, (202) 366-7785.

Dated: Monday, September 12, 2005.
Karan K. Bhatia,
Assistant Secretary for Aviation and International Affair.

[FR Doc. 05-18411 Filed 9-15-05; 8:45 am]

BILLING CODE 4910-62-P